DEPARTMENT OF LABOR

Employment and Training Administration

[TA-W-54,378]

Roaring and Cumberland Manufacturing Sparta, TN; Notice of Termination of Investigation

Pursuant to section 221 of the Trade Act of 1974, as amended, an investigation was initiated on February 27, 2004, in response to a petition filed on behalf of workers at Roaring and Cumberland Manufacturing, Sparta, Tennessee.

The petitioners have requested that the petition be withdrawn. Consequently, the investigation has been terminated.

Signed in Washington, DC this 1st day of April, 2004.
Richard Church,
Certifying Officer, Division of Trade Adjustment Assistance.

[FR Doc. E4-998 Filed 5-3-04; 8:45 am]

BILLING CODE 4510-13-P